DEPARTMENT OF HOMELAND SECURITY

Federal Emergency Management Agency

[Docket ID FEMA-2019-0002; Internal Agency Docket No. FEMA-B-1967]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona: Mohave | City of Lake Havasu City (19-09-1104P). | The Honorable Cal S. Sheehy, Mayor, City of Lake Havasu City, 2330 McCulloch Boulevard North, Lake Havasu City, AZ 86403. | City Hall, 2330 McCulloch Boulevard North, Lake Havasu City, AZ 86403. | https://msc.fema.gov/portal/advanceSearch. | Dec. 31, 2019 | 040116
California: Calaveras | Unincorporated areas of Calaveras County (19-09-0712P). | Mr. Albert Alt, Chief Administrative Officer, Calaveras County, 891 Mountain Ranch Road, San Andreas, CA 95249. | Calaveras County Planning Department, 891 Mountain Ranch Road, San Andreas, CA 95249. | https://msc.fema.gov/portal/advanceSearch. | Jan. 3, 2020 | 060633
Colorado:
Adams | City of Thornton (18-08-1245P). | The Honorable Heidi Williams, Mayor, City of Thornton, 9500 Civic Center Drive, Thornton, CO 80229. | City Hall, 12450 Washington Street, Thornton, CO 80241. | https://msc.fema.gov/portal/advanceSearch. | Jan. 3, 2020 | 080007
Adams | Unincorporated areas of Adams County (18-08-1245P). | The Honorable Steve O'Dorisio, Chairman, Adams County Board of Commissioners, 4430 South Adams County Parkway, 5th Floor, Suite C5000A, Brighton, CO 80601. | Adams County Development and Engineering Services Department, 4430 South Adams County Parkway, Brighton, CO 80601. | https://msc.fema.gov/portal/advanceSearch. | Jan. 3, 2020 | 080001
Jefferson | City of Arvada (19-08-0295P). | The Honorable Marc Williams, Mayor, City of Arvada, 8101 Ralston Road, Arvada, CO 80002. | Engineering Department, 8101 Ralston Road, Arvada, CO 80002. | https://msc.fema.gov/portal/advanceSearch. | Dec. 20, 2019 | 085072
Jefferson | City of Lakewood (19-08-0656P). | The Honorable Adam Paul, Mayor, City of Lakewood, 480 South Allison Parkway, Lakewood, CO 80226. | Engineering Department, 480 South Allison Parkway, Lakewood, CO 80226. | https://msc.fema.gov/portal/advanceSearch. | Jan. 10, 2020 | 085075
Jefferson | Unincorporated areas of Jefferson County (19-08-0295P). | The Honorable Marc Szabo, The Honorable Libby Szabo, Chairman, Jefferson County Board of Commissioners, 100 Jefferson County Parkway, Suite 5550, Golden, CO 80419. | Jefferson County Department of Planning and Zoning, 100 Jefferson County Parkway, Suite 3550, Golden, CO 80419. | https://msc.fema.gov/portal/advanceSearch. | Dec. 20, 2019 | 080087
Delaware: Sussex | Unincorporated areas of Sussex County (19-03-0441P). | The Honorable Michael H. Vincent, President, Sussex County Council, P.O. Box 589, Georgetown, DE 19947. | Sussex County Planning and Zoning Department, 2 The Circle, Georgetown, DE 19947. | https://msc.fema.gov/portal/advanceSearch. | Jan. 3, 2020 | 100029
Florida:
Bay | Unincorporated areas of Bay County (19-04-0600P). | The Honorable Philip Griffitts, Jr., Chairman, Bay County Board of Commissioners, 840 West 11th Street, Panama City, FL 32401. | Bay County Government Center, 840 West 11th Street, Panama City, FL 32401. | https://msc.fema.gov/portal/advanceSearch. | Dec. 23, 2019 | 120004
Collier | City of Marco Island, (19-04-4346P). | Mr. Mike McNees, Manager, City of Marco Island, 50 Bald Eagle Drive, Marco Island, FL 34145. | Building Services Department, 50 Bald Eagle Drive, Marco Island, FL 34145. | https://msc.fema.gov/portal/advanceSearch. | Dec. 18, 2019 | 120426
Collier | City of Naples (19-04-4530P). | The Honorable Bill Barnett, Mayor, City of Naples, 735 8th Street South, Naples, FL 34112. | Building Department, 295 Riverside Circle, Naples, FL 34102. | https://msc.fema.gov/portal/advanceSearch. | Dec. 31, 2019 | 125130
Lee | Unincorporated areas of Lee County (19-04-2304P). | Mr. Rodger Desjarlais Lee County Manager, P.O. Box 398, Fort Myers, FL 33902. | Lee County Department of Community Development, 1500 Monroe Street, Fort Myers, FL 33901. | https://msc.fema.gov/portal/advanceSearch. | Dec. 26, 2019 | 125124
Lee | Unincorporated areas of Lee County (19-04-4318P). | Mr. Rodger Desjarlais Lee, County Manager, P.O. Box 398, Fort Myers, FL 33902. | Lee County Building Department, 1500 Monroe Street, Fort Myers, FL 33901. | https://msc.fema.gov/portal/advanceSearch. | Dec. 16, 2019 | 125124
Marion | City of Ocala (19-04-1095P). | The Honorable Kent Guinn, Mayor, City of Ocala, 110 Southeast Watula Avenue, Ocala, FL 34471. | City Hall, 110 Southeast Watula Avenue, Ocala, FL 34471. | https://msc.fema.gov/portal/advanceSearch. | Dec. 27, 2019 | 120330
Monroe | Unincorporated areas of Monroe County (19-04-2961P). | The Honorable Sylvia Murphy, Mayor, Monroe County Board of Commissioners, 102050 Overseas Highway, Suite 234, Key Largo, FL 33037. | Monroe County Building Department, 2798 Overseas Highway, Suite 300, Marathon, FL 33037. | https://msc.fema.gov/portal/advanceSearch. | Dec. 18, 2019 | 125129
Monroe | Unincorporated areas of Monroe County (19-04-4407P). | The Honorable Sylvia Murphy, Mayor, Monroe County Board of Commissioners, 102050 Overseas Highway, Suite 234, Key Largo, FL 33037. | Monroe County Building Department, 2798 Overseas Highway, Suite 300, Marathon, FL 33037. | https://msc.fema.gov/portal/advanceSearch. | Dec. 23, 2019 | 125129
Monroe | Village of Islamorada (19-04-5066P). | The Honorable Deb Gillis Mayor, Village of Islamorada, 86800 Overseas Highway, Islamorada, FL 33036. | Building Department, 86800 Overseas Highway, Islamorada, FL 33036. | https://msc.fema.gov/portal/advanceSearch. | Dec. 30, 2019 | 120424
Seminole | Unincorporated areas of Seminole County (19-04-3092P). | The Honorable Brenda Carey, Chair, Seminole County Board of Commissioners, 1101 East 1st Street, Sanford, FL 32771. | Seminole County Development Review Division, 1101 East 1st Street, Sanford, FL 32771. | https://msc.fema.gov/portal/advanceSearch. | Dec. 27, 2019 | 120289
Louisiana:
Lafayette | City of Lafayette (19-06-0044P). | The Honorable Joel Robideaux, Mayor-President, Lafayette Consolidated Government, P.O. Box 4017-C, Lafayette, LA 70502. | Department of Development and Planning, 220 West Willow Street Building B, Lafayette, LA 70501. | https://msc.fema.gov/portal/advanceSearch. | Dec. 16, 2019 | 220105
Lafayette | Unincorporated areas of Lafayette Parish (19-06-0044P). | The Honorable Joel Robideaux, Mayor-President, Lafayette Consolidated Government, P.O. Box 4017-C, Lafayette, LA 70502. | Department of Development and Planning, 220 West Willow Street Building B, Lafayette, LA 70501. | https://msc.fema.gov/portal/advanceSearch. | Dec. 16, 2019 | 220101
Maryland: Baltimore | Unincorporated areas of Baltimore County (19-03-1183P). | The Honorable John A. Olszewski, Jr., Baltimore County Executive, 400 Washington Avenue, Towson, MD 21204. | Baltimore County Department of Public Works, 111 West Chesapeake Avenue, Room 219, Towson, MD 21204. | https://msc.fema.gov/portal/advanceSearch. | Dec. 31, 2019 | 240010
Massachusetts:
Plymouth | Town of Marion (19-01-0738P). | The Honorable Randy L. Parker, Chairman, Town of Marion Board of Selectmen, 2 Spring Street, Marion, MA 02738. | Town Hall, 2 Spring Street, Marion, MA 02738. | https://msc.fema.gov/portal/advanceSearch. | Jan. 10, 2020 | 255213
Plymouth | Town of Marion (19-01-1162P). | The Honorable Randy L. Parker, Chairman, Town of Marion Board of Selectmen, 2 Spring Street, Marion, MA 02738. | Town Hall, 2 Spring Street, Marion, MA 02738. | https://msc.fema.gov/portal/advanceSearch. | Jan. 3, 2020 | 255213
Plymouth | Town of Mattapoisett (19-01-0738P). | The Honorable R. Tyler Macallister, Chairman, Town of Mattapoisett Board of Selectmen, P.O. Box 705, Mattapoisett, MA 02739. | Town Hall, 16 Main Street, Mattapoisett, MA 02739. | https://msc.fema.gov/portal/advanceSearch. | Jan. 10, 2020 | 255214
New Mexico: Bernalillo | City of Albuquerque (19-06-0661P). | The Honorable Timothy M. Keller, Mayor, City of Albuquerque, P.O. Box 1293, Albuquerque, NM 87103. | Planning Department, 600 2nd Street Northwest, Albuquerque, NM 87102. | https://msc.fema.gov/portal/advanceSearch. | Dec. 23, 2019 | 350002
North Carolina:
Durham | City of Durham (18-04-7236P). | The Honorable Steve Schewel, Mayor, City of Durham, 101 City Hall Plaza, Durham, NC 27701. | Public Works Department, 101 City Hall Plaza, Durham, NC 27701. | https://msc.fema.gov/portal/advanceSearch. | Dec. 30, 2019 | 370086
Durham | Unincorporated areas of Durham County (18-04-7236P). | The Honorable Wendy Jacobs, Chair, Durham County Board of Commissioners, 200 East Main Street, 2nd Floor, Durham, NC 27701. | Durham County Register of Deeds Department, 201 East Main Street, Durham, NC 27701. | https://msc.fema.gov/portal/advanceSearch. | Dec. 30, 2019 | 370085
Pennsylvania:
Chester | Township of West Pikeland (18-03-1853P). | The Honorable Charlie Humphreys, Chairman, Township of West Pikeland Board of Supervisors, 1645 Art School Road, Chester Springs, PA 19425. | Township Hall, 1645 Art School Road, Chester Springs, PA 19425. | https://msc.fema.gov/portal/advanceSearch. | Dec. 31, 2019 | 421151
Montgomery | Township of Whitpain (19-03-0500P). | The Honorable Frederick R. Conner, Jr., Chairman, Township of Whitpain Board of Supervisors, 960 Wentz Road, Blue Bell, PA 19422. | Code Enforcement Department, 960 Wentz Road, Blue Bell, PA 19422. | https://msc.fema.gov/portal/advanceSearch. | Jan. 3, 2020 | 420713
Texas:
Bexar | City of San Antonio (18-06-3650P). | The Honorable Ron Nirenberg, Mayor, City of San Antonio, P.O. Box 839966, San Antonio, TX 78283. | Transportation and Capitol Improvements Department, Storm Water Division, 1901 South Alamo Street, 2nd Floor, San Antonio, TX 78204. | https://msc.fema.gov/portal/advanceSearch. | Nov. 12, 2019 | 480045
Denton | Town of Northlake (19-06-1881P). | The Honorable David Rettig, Mayor, Town of Northlake, 1500 Commons Circle, Suite 300, Northlake, TX 76226. | Public Works Department, 1400 FM 407, Northlake, TX 76247. | https://msc.fema.gov/portal/advanceSearch. | Dec. 23, 2019 | 480782
El Paso | City of El Paso (19-06-2306P). | Mr. Tommy Gonzalez, Manager, City of El Paso, 300 North Campbell Street, El Paso, TX 79901. | Land Development Department, 801 Texas Avenue, El Paso, TX 79901. | https://msc.fema.gov/portal/advanceSearch. | Dec. 23, 2019 | 480214
Harris | City of Baytown (18-06-1537P). | The Honorable Brandon Capetillo, Mayor, City of Baytown, 2401 Market Street, Baytown, TX 77520. | Engineering Department, 2123 Market Street, Baytown, TX 77520. | https://msc.fema.gov/portal/advanceSearch. | Dec. 30, 2019 | 485456
Harris | Unincorporated areas of Harris County (18-06-1537P). | The Honorable Lina Hidalgo, Harris County Judge, 1001 Preston Street, Suite 911, Houston, TX 77002. | Harris County Permits Office, 10555 Northwest Freeway, Suite 120, Houston, TX 77092. | https://msc.fema.gov/portal/advanceSearch. | Dec. 30, 2019 | 480287
Tarrant | City of Fort Worth (19-06-2917P). | The Honorable Betsy Price, Mayor, City of Fort Worth, 200 Texas Street, Fort Worth, TX 76102. | Transportation and Public Works Department, 200 Texas Street, Fort Worth, TX 76102. | https://msc.fema.gov/portal/advanceSearch. | Dec. 23, 2019 | 480596
Travis | City of Lakeway (19-06-0745P). | Mr. Steven Jones, Manager, City of Lakeway, 1102 Lohmans Crossing Road, Lakeway, TX 78734. | City Hall, 1102 Lohmans Crossing Road, Lakeway, TX 78734. | https://msc.fema.gov/portal/advanceSearch. | Jan. 23, 2020 | 481303
Utah:
Washington | City of Ivins (19-08-0375P). | The Honorable Chris Hart, Mayor, City of Ivins, 55 North Main Street, Ivins, UT 84738. | City Hall, 55 North Main Street, Ivins, UT 84738. | https://msc.fema.gov/portal/advanceSearch. | Dec. 31, 2019 | 490173
Washington | City of Santa Clara (19-08-0375P). | The Honorable Rick Rosenberg, Mayor, City of Santa Clara, 2603 Santa Clara Drive, Santa Clara, UT 84765. | City Hall, 2603 Santa Clara Drive, Santa Clara, UT 84765. | https://msc.fema.gov/portal/advanceSearch. | Dec. 31, 2019 | 490178

[FR Doc. 2019-23113 Filed 10-22-19; 8:45 am]

BILLING CODE 9110-12-P